DEPARTMENT OF ENERGY

Federal Energy Regulatory Commission

Combined Notice of Filings #1

Take notice that the Commission received the following electric corporate filings:

Docket Numbers: EC17-117-000.

Applicants: Dynegy Zimmer, LLC, Dynegy Miami Fort, LLC, The Dayton Power and Light Company, AES Ohio Generation, LLC.

Description: Supplement to May 12, 2017 Joint Application for Authorization of Disposition of Jurisdictional Assets Under Section 203(a)(1) of the Federal Power Act of Dynegy Buyers and AES Sellers.

Filed Date: 6/5/17.

Accession Number: 20170605-5116.

Comments Due: 5 p.m. ET 6/26/17.

Take notice that the Commission received the following electric rate filings:

Docket Numbers: ER15-414-002.

Applicants: ISO New England Inc., Eversource Energy Service Company (as ag, Emera Maine, Central Maine Power Company, New Hampshire Transmission, LLC, New England Power Company, The United Illuminating Company, Unitil Energy Systems, Inc., Vermont Transco, LLC.

Description: Compliance filing: Filing of New England Transmission Owners to Return Rates to the Status Quo Ante to be effective 6/6/2017.

Filed Date: 6/5/17.

Accession Number: 20170605-5166.

Comments Due: 5 p.m. ET 6/26/17.

Docket Numbers: ER17-42-001; ER17-43-001; ER17-962-001.

Applicants: Portal Ridge Solar B, LLC, Portal Ridge Solar C, LLC, MS Solar 2, LLC.

Description: Notice of Change in Status of the DESRI MBR Sellers ER17-42, et al.

Filed Date: 6/2/17.

Accession Number: 20170602-5165.

Comments Due: 5 p.m. ET 6/23/17.

Docket Numbers: ER17-1663-002.

Applicants: Elwood Energy LLC.

Description: Compliance filing: Informational Filing Regarding Compliance With PJM Schedule 2 to be effective N/A.

Filed Date: 6/2/17.

Accession Number: 20170602-5124.

Comments Due: 5 p.m. ET 6/23/17.

Docket Numbers: ER17-1754-000.

Applicants: Albertsons Companies, LLC.

Description: Compliance filing: Refile Market-Based Rate Tariff to be effective 6/19/2017.

Filed Date: 6/5/17.

Accession Number: 20170605-5063.

Comments Due: 5 p.m. ET 6/26/17.

Docket Numbers: ER17-1755-000.

Applicants: Albertsons Companies, LLC.

Description: Tariff Cancellation: Cancellation to be effective 6/19/2017.

Filed Date: 6/5/17.

Accession Number: 20170605-5065.

Comments Due: 5 p.m. ET 6/26/17.

Docket Numbers: ER17-1756-000.

Applicants: Midcontinent Independent System Operator Inc., Ameren Illinois Company.

Description: § 205(d) Rate Filing: 2017-06-05_SA 2276 Ameren-Dynegy Amended DFSA to be effective 6/1/2017.

Filed Date: 6/5/17.

Accession Number: 20170605-5108.

Comments Due: 5 p.m. ET 6/26/17.

Docket Numbers: ER17-1757-000.

Applicants: Entergy New Orleans, LLC.

Description: Baseline eTariff Filing: ENOL MBR Application to be effective 12/31/9998.

Filed Date: 6/5/17.

Accession Number: 20170605-5118.

Comments Due: 5 p.m. ET 6/26/17.

Docket Numbers: ER17-1758-000.

Applicants: PJM Interconnection, L.L.C.

Description: § 205(d) Rate Filing: ISA No. 4723; Queue No. AA2-173/AB1-112 to be effective 5/15/2017.

Filed Date: 6/5/17.

Accession Number: 20170605-5128.

Comments Due: 5 p.m. ET 6/26/17.

Take notice that the Commission received the following electric securities filings:

Docket Numbers: ES17-20-000.

Applicants: ITC Midwest LLC.

Description: Errata to April 27, 2017 Application [Exhibits C, D, and E] of ITC Midwest LLC under Section 204 of the Federal Power Act and Part 34 of the Commission's Regulations.

Filed Date: 5/26/17.

Accession Number: 20170526-5116.

Comments Due: 5 p.m. ET 6/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2017.
Kimberly D. Bose,
Secretary.

[FR Doc. 2017-12049 Filed 6-9-17; 8:45 am]

BILLING CODE 6717-01-P